DEPARTMENT OF COMMERCE

Foreign-Trade Zones Board

[Docket 24-2006]

Foreign-Trade Zone 126 -- Reno, Nevada, Application for Expansion/Reorganization

An application has been submitted to the Foreign-Trade Zones Board (the Board) by the Economic Development Authority of Western Nevada, grantee of FTZ 126, requesting authority to expand and reorganize its zone in the Reno, Nevada, area, in the Reno Customs port of entry. The application was submitted pursuant to the provisions of the Foreign-Trade Zones Act (19 U.S.C. 81a-81u), and the regulations of the Board (15 CFR Part 400). It was formally filed on June 14, 2006.

FTZ 126 was approved on April 4, 1986 (Board Order 328, 51 FR 12904, 4/16/86) and expanded on February 25, 1997 (Board Order 872, 62 FR 10520, 3/7/97), and on December 15, 1999 (Board Order 1066, 64 FR 72642, 12/28/99). The general-purpose zone currently consists of seven sites in the Reno area: Site 1 (15 acres) -- located on Spice Island Drive near the Reno International Airport, Sparks; Site 2 (9 acres, 482,000 sq. ft.) -- located at 450-475 Lillard Drive, Sparks; Site 3 (30 acres) -- consisting of four related but non-contiguous parcels located at 205 Parr Blvd., 365 Parr Circle, 345 Parr Circle and 800 Stillwell Road in Reno; Site 4 (1,281 acres) -- Nevada Pacific Industrial Park, Nevada Pacific Parkway & East Newlands Drive, Fernley (expires 8/1/07); Site 5 (1,215 acres) -- Asamera Ranch Industrial Center, Waltham Way Bridge and the Patrick Exit, Sparks (expires 8/1/07); Site 6 (2,035 acres) -- Reno-Tahoe International Airport (expires 8/1/07); Site 7 (2,953 acres) -- Reno-Stead Airport, including a 33-acre TNT Logistics/Michelin North America, Inc., facility located at 14551 Industry Circle, Reno (expires 8/1/07).

The applicant is now requesting authority to expand and reorganize the zone project as described below. Sites 1, 2 and 3 will remain unchanged. Sites 4-7 will be reorganized with certain existing areas being removed and, in some cases, new areas added. Proposed Sites 4 and 5 are based on existing Site 4. Proposed Site 6 is drawn from existing Site 5. Proposed Sites 7 and 8 are related to existing Site 7. Proposed Sites 9-13 are based on existing Site 6. The site plan (except for Sites 1-3) will be reorganized as follows:

Proposed Site 4 (200 acres) -- within the 5,000-acre Crossroads Commerce Center, Nevada Pacific Parkway and East Newlands Drive, Fernley (Lyon County);

Proposed Site 5 (20 acres) -- within the 110-acre Fernley Industrial Park, Lyon Drive and Industrial Drive, Fernley;

Proposed Site 6 (768 acres) -- consists of seven parcels located within the Tahoe Reno Industrial Center located in Patrick (Storey County): Proposed Site 6A (622 acres, 2 parcels) located at Tahoe Reno Industrial Center southwest of Denmark and USA Parkway; and, Proposed Site 6B (146 acres, 5 parcels) located at Patrick Business Park on Waltham Way;

Proposed Site 7 (38 acres) consists of two parcels at the Reno-Stead Airport in Reno (Washoe County): Proposed Site 7A (33 acres) -- TNT Logistics/Michelin North America Inc. warehouse facility located at 14551 Industry Circle; and, Proposed Site 7B (5 acres) -- Reno Stead Airport located at 4895 Texas Avenue;

Proposed Site 8 (53 acres, 4 parcels) -- Sage Point Business Park located on or near Lear Boulevard at Military Road, Reno;

Proposed Site 9 (25 acres) -- consists of three parcels within the Dermody Business Park at 5360 Capital Court and 1312 and 1316 Capital Boulevard, Reno;

Proposed Site 10 (10 acres) -- Dermody Aircenter, 4879 Aircenter Circle, Reno;

Proposed Site 11 (18 acres) -- warehouse located at 45 Vista Boulevard, Sparks;

Proposed Site 12 (100 acres, 6 parcels) -- South Meadows Business Park located at 1150, 1160, 1170, 1175, 1190 and 1195 Trademark Drive, Reno; and,

Proposed Site 13 (10 acres) -- within the Reno-Tahoe International Airport, 700 South Rock Boulevard, Reno.

The proposed sites are owned by Sonterra Development Company (Site 4), DP Industrial LLC (Sites 5, 6B, 8-12), Tahoe-Reno Industrial Center LLC (Site 6A), Paul and Eleanor Sade Trust (Site 7A), and Reno-Tahoe Airport Authority (Sites 7B & 13). No specific manufacturing requests are being made at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is August 21, 2006. Rebuttal comments in response to material submitted during the foregoing period may be submitted during the subsequent 15-day period (to September 5, 2006).

A copy of the application and accompanying exhibits will be available for public inspection at each of the following locations: U.S. Department of Commerce Export Assistance Center, One East First Street, 16th Floor, Reno, Nevada 89501; and, Office of the Executive Secretary, Foreign-Trade Zones Board, U.S. Department of Commerce, 1401 Constitution Avenue, NW., Room 1115, Washington, DC 20230.

Dated: June 14, 2006.
Pierre V. Duy,
Acting Executive Secretary.

[FR Doc. E6-9821 Filed 6-20-06; 8:45 am]

BILLING CODE 3510-DS-S